DEPARTMENT OF ENERGY

Federal Energy Regulatory Commission

[Docket No. RP95-197-045 and RP97-71-037]

Transcontinental Gas Pipe Line Corporation; Notice of Compliance Filing

September 19, 2002.

Take notice that on September 13, 2002, Transcontinental Gas Pipe Line Corporation (Transco) tendered for filing as part of its FERC Gas Tariff, Third Revised Volume No. 1, the revised tariff sheets which tariff sheets are enumerated in Appendix A attached to the filing. The proposed effective date of the tariff sheets is November 1, 2002.

Transco states that the purpose of this filing is to comply with the Commission's Order on Initial Decision issued on April 16, 1999 and Order on Rehearing issued on March 28, 2001 in the referenced dockets, which orders, among other things, directed Transco to unbundle its Rate Schedule SS-1 storage service.

Transco states that it will serve copies of the instant filing on its affected customers and interested State Commissions.

Any person desiring to protest said filing should file a protest with the Federal Energy Regulatory Commission, 888 First Street, NE., Washington, DC 20426, in accordance with section 385.211 of the Commission's rules and regulations. All such protests must be filed in accordance with Section 154.210 of the Commission's Regulations. Protests will be considered by the Commission in determining the appropriate action to be taken, but will not serve to make protestants parties to the proceedings. This filing is available for review at the Commission in the Public Reference Room or may be viewed on the Commission's web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-24326 Filed 9-25-02; 8:45 am]

BILLING CODE 6717-01-P